DEPARTMENT OF ENERGY

Federal Energy Regulatory Commission

[Project No. 7569-005]

City of South Bend, Indiana, University of Notre Dame; Notice of Transfer of Exemption

1. By letter filed December 15, 2016, the City of South Bend, Indiana and The University of Notre Dame informed the Commission that the exemption from licensing for the South Bend Hydroelectric Project No. 7569, originally issued April 18, 1984 ¹ has been transferred to the University of Notre Dame. The project is located on the St. Joseph River in St. Joseph County, Indiana. The transfer of an exemption does not require Commission approval.

¹ Order Granting Exemption from Licensing of a Small Hydroelectric Project of 5 Megawatts or Less. City of South Bend, Indiana, 27 FERC 62,056 (1984).

2. The University of Notre Dame is now the exemptee of the South Bend Hydroelectric Project No. 7569. All correspondence should be forwarded to: Mr. Paul Kempf, Director of Utilities & Maintenance, The University of Notre Dame, 100 Facilities Building, Notre Dame, IN 46556, Phone: 574-631-0142, Email: Paul.A.Kempf.2@nd.edu.

Dated: January 31, 2017.
Kimberly D. Bose,
Secretary.

[FR Doc. 2017-02419 Filed 2-3-17; 8:45 am]

BILLING CODE 6717-01-P